DEPARTMENT OF JUSTICE

Antitrust Division

Notice Pursuant to the National Cooperative Research and Production Act of 1993; National Armaments Consortium (Formerly National Warheads and Energetics Consortium)

Notice is hereby given that, on November 14, 2013, pursuant to Section 6(a) of the National Cooperative Research and Production Act of 1993, 15 U.S.C. 4301 et seq. (“the Act”), National Warheads and Energetics Consortium (“NWEC”), has filed written notifications simultaneously with the Attorney General and the Federal Trade Commission disclosing changes in its membership. The notifications were filed for the purpose of extending the Act's provisions limiting the recovery of antitrust plaintiffs to actual damages under specified circumstances. National Warheads and Energetics Consortium (“NWEC”) has changed its name to National Armaments Consortium (“NAC”). In addition, ARES, Inc., Port Clinton, OH; Arrow Tech Associates, Inc., So. Burlington, VT; B.M.L. Tool & Mfg. Corp., Monroe, CT; BlazeTech Corporation, Woburn, MA; Booz Allen Hamilton, McLean, VA; Central Screw Products dba Detroit Gun Works, Troy, MI; Cherokee-Technical Specialists, LLC, Santa Rosa Beach, FL; Defined PRO Machining LLC, Wharton, NJ; Gramago, LLC, Norman, OK; Helicon Chemical Company LLC, Orlando, FL; Lewis Machine & Tool Company, Milan, IL; Lund & Company Invention LLC, River Forest, IL; MATSYS, Inc., Sterling, VA; MELITAconsulting LLC, Alexandria, VA; Merrill Technologies Group, Saginaw, MI; Metal Storm Inc., Herndon, VA; Mide Technology Corporation, Medford, MA; Moog, Inc., East Aurora, NY; Otis Products Inc., Lyons Falls, NY; Parsons Government Services, Pasadena, CA; Performance Indictor, LLC, Lowell, MA; Physical Optics Corporation, Torrance, CA; and The Curators of the University of Missouri, Columbia, MO, have been added as parties to this venture.

Also, Blackhawk Management, Houston, TX; Blue Juice, Inc., San Rafael, CA; Engineering and Management Executives, Alexandria, VA; LRAD Corporation, San Diego, CA; Lumimove, Inc., (dba Crosslink), St. Louis, MO; and MBDA Inc., Arlington, VA, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on July 22, 2013. A notice was published in the Federal Register pursuant to Section 6(b) of the Act on August 26, 2013 (78 FR 52787).

Patricia A. Brink,
Director of Civil Enforcement, Antitrust Division.

[FR Doc. 2013-29272 Filed 12-6-13; 8:45 am]

BILLING CODE P